DEPARTMENT OF JUSTICE

Antitrust Division

Notice Pursuant to the National Cooperative Research and Production Act of 1993—Southwest Research Institute: Validation of Methodology for Assessing Defect Tolerance of Welded Reeled Risers

Notice is hereby given that, on June 28, 2005, pursuant to section 6(a) of the National Cooperative Research and Production Act of 1993, 15 U.S.C. 4301 et seq. (“the Act”), Southwest Research Institute (“SwRI”): Validation of Methodology for Assessing Defect Tolerance of Welded Reeled Risers has filed written notifications simultaneously with the Attorney General and the Federal Trade Commission disclosing changes in its membership. The notifications were filed for the purpose of extending the Act's provisions limiting the recovery of antitrust plaintiffs to actual damages under specified circumstance. Specifically, Technip Offshore UK Limited, Aberdeen, Scotland, United Kingdom; Tenaris Connections AG, Vaduz, Liechtenstein; and Total E&P Services, LaDefense, FRANCE have been added as parties to this venture.

No other changes have been made in either the membership or planned activity of the group research project. Membership in this group research project remains open, and SwRI: Validation of Methodology for Assessing Defect Tolerance of Welded Reeled Risers intends to file additional written notification disclosing all changes in membership.

On August 12, 2004, SwRI: Validation of Methodology for Assessing Defect Tolerance of Welded Reeled Risers filed its original notification pursuant to section 6(a) of the Act. The Department of Justice published a notice in the Federal Register pursuant to section 6(b) of the Act on September 7, 2004 (69 FR 54155).

Dorothy B. Fountain,
Deputy Director of Operations, Antitrust Division.

[FR Doc. 05-14031 Filed 7-15-05; 8:45 am]

BILLING CODE 4410-11-M